DEPARTMENT OF HEALTH AND HUMAN SERVICES

Centers for Disease Control and Prevention

[30-Day-14-0900]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Contact Investigation Outcome Reporting Forms (0920-0900)- Revision—(Expiration date: September 30, 2014)—National Center for Emerging and Zoonotic Infectious Diseases (NCEZID), Division of Global Migration and Quarantine (DGMQ), Centers for Disease Control and Prevention (CDC).

Background and Brief Description

The Centers for Disease Control and Prevention (CDC), Division of Global Migration and Quarantine (DGMQ) requests a revision of the currently approved Information Collection Request: “Contact Investigation Outcome Reporting Forms,” expiring September 30, 2014. CDC has conducted a thorough review of the data collection tools approved in this information collection request. To streamline the data collected, ease the completion of each data collection tool, and to target information collected to be more specific to the individual illness of public health concern, several changes to the data collection tools have been proposed. The result is a 12% reduction in burden, or a reduction of 32 total burden hours. A summary of changes is as follows:

• Data pertaining to contact investigations for measles, mumps and rubella will no longer be collected using one form for either the air or maritime environments.

• Data collection for measles contact investigations will be collected either by using the Measles Contact Investigation Reporting Form—Air, or the Measles Contact Investigation Reporting Form—Maritime.

• CDC will no longer collect information pertaining to cases of mumps occurring during air travel. Contact investigations for cases of mumps occurring onboard maritime conveyances will still be evaluated, using the General Contact Investigation Outcome Form—Maritime.

• Data collection for rubella contact investigations will be collected either by using the Rubella Contact Investigation Reporting Form—Air, or the Rubella Contact Investigation Reporting Form—Maritime. Data collection fields pertaining to pregnant women have been added to assist in recommending the appropriate prophylaxis of those exposed.

• Data pertaining to contact investigations occurring in the air and land-border crossing environments will no longer be collected using the same form. Factors affecting the disease transmission in these environments is very different, thus, CDC has created separate data collection tools and fields. Data collection for contact investigations of illnesses of public health concern occurring in a land-border crossing environment will be collected by using the General Contact Investigation Reporting Form—Land. Data collection for illnesses of public health concern occurring in an air environment will be collected using tools specific to each disease.

• In response to a request from maritime operators (cruise ship physicians/cargo ship managers), CDC has added the option for contact investigation outcome reporting to be completed in either a MS Word or MS Excel format. The Excel format allows reporting for multiple patients simultaneously without completing separate documents for each ill traveler. The information collected on each of the data collection tools is the same. Data collection for contact investigations for diseases of public health concern occurring in a maritime environment will be collected using tools specific to each of the diseases listed above.

This data collection supports the need for CDC staff to evaluate cases of communicable diseases of public health concern during travel and conduct investigative contact tracing for those that may have been exposed. The proposed data collection tools facilitate the collection of data pertaining to these contact investigations.

CDC is requesting a total of 248 burden hours in this revision. There are no costs to respondents other than their time.

Estimated Annualized Burden Hours
Type of respondents | Form name | Number of respondents | Number of responses per respondent | Average burden per response (in hrs.)
State/local health department staff | General Contact Investigation Outcome Reporting Form (Air) | 12 | 1 | 5/60
Cruise Ship Physicians/Cargo Ship Managers | General Contact Investigation Outcome Reporting Form (Maritime—Word version) | 100 | 1 | 5/60
Cruise Ship Physicians/Cargo Ship Managers | General Contact Investigation Outcome Reporting Form (Maritime—Excel version) | 100 | 1 | 5/60
State/local health department staff | General Contact Investigation Outcome Reporting Form (Land) | 12 | 1 | 5/60
State/local health department staff | TB Contact Investigation Outcome Reporting Form (Air) | 1,244 | 1 | 5/60
Cruise Ship Physicians/Cargo Ship Managers | TB Contact Investigation Outcome Reporting Form (Maritime—Word version) | 150 | 1 | 5/60
Cruise Ship Physicians/Cargo Ship Managers | TB Contact Investigation Outcome Reporting Form (Maritime—Excel version) | 150 | 1 | 5/60
State/local health department staff | Measles Contact Investigation Outcome Reporting Form (Air) | 964 | 1 | 5/60
Cruise Ship Physicians/Cargo Ship Managers | Measles Contact Investigation Outcome Reporting Form (Maritime—Word version) | 63 | 1 | 5/60
Cruise Ship Physicians/Cargo Ship Managers | Measles Contact Investigation Outcome Reporting Form (Maritime—Excel version) | 63 | 1 | 5/60
State/local health department staff | Rubella Contact Investigation Outcome Reporting Form (Air) | 95 | 1 | 5/60
Cruise Ship Physicians/Cargo Ship Managers | Rubella Contact Investigation Outcome Reporting Form (Maritime—Word version) | 12 | 1 | 5/60
Cruise Ship Physicians/Cargo Ship Managers | Rubella Contact Investigation Outcome Reporting Form (Maritime—Excel version) | 12 | 1 | 5/60

Leroy Richardson,
Chief, Information Collection Review Office, Office of Scientific Integrity, Office of the Associate Director for Science, Office of the Director, Centers for Disease Control and Prevention.

[FR Doc. 2014-16569 Filed 7-14-14; 8:45 am]

BILLING CODE 4163-18-P